Title 3—

The President

Proclamation 9072 of December 23, 2013

To Take Certain Actions Under the African Growth and Opportunity Act and for Other Purposes

By the President of the United States of America

A Proclamation

1. In Proclamation 8921 of December 20, 2012, I determined that the Republic of Mali (Mali) was not making continual progress in meeting the requirements described in section 506A(a)(1) of the Trade Act of 1974, as amended (the “1974 Act”), as added by section 111(a) of the African Growth and Opportunity Act (title I of Public Law 106-200) (AGOA). Thus, pursuant to section 506A(a)(3) of the 1974 Act (19 U.S.C. 2466a(a)(3)), I terminated the designation of Mali as a beneficiary sub-Saharan African country for purposes of section 506A of the 1974 Act.

2. Section 506A(a)(1) of the 1974 Act authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

3. Based on actions that the Government of Mali has taken over the past year, pursuant to section 506A(a)(1) of the 1974 Act, I have determined that Mali meets the eligibility requirements set forth in section 104 of the AGOA and section 502 of the 1974 Act, and I have decided to designate Mali as a beneficiary sub-Saharan African country.

4. On April 22, 1985, the United States and Israel entered into the Agreement on the Establishment of a Free Trade Area between the Government of the United States of America and the Government of Israel (USIFTA), which the Congress approved in the United States-Israel Free Trade Area Implementation Act of 1985 (the “USIFTA Act”) (19 U.S.C. 2112 note).

5. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA.

6. In order to maintain the general level of reciprocal and mutually advantageous concessions with respect to agricultural trade with Israel, on July 27, 2004, the United States entered into an agreement with Israel concerning certain aspects of trade in agricultural products during the period January 1, 2004, through December 31, 2008 (the “2004 Agreement”).

7. In Proclamation 7826 of October 4, 2004, consistent with the 2004 Agreement, the President determined, pursuant to section 4(b) of the USIFTA Act, that it was necessary in order to maintain the general level of reciprocal and mutually advantageous concessions with respect to Israel provided for by the USIFTA, to provide duty-free access into the United States through December 31, 2008, for specified quantities of certain agricultural products of Israel.

8. Each year from 2008 through 2012, the United States and Israel entered into agreements to extend the period that the 2004 Agreement was in force for 1-year periods to allow additional time for the two governments to conclude an agreement to replace the 2004 Agreement.

9. To carry out the extension agreements, the President in Proclamation 8334 of December 31, 2008; Proclamation 8467 of December 23, 2009; Proclamation 8618 of December 21, 2010; Proclamation 8770 of December 29, 2011; and Proclamation 8921 of December 20, 2012, modified the Harmonized Tariff Schedule of the United States (HTS) to provide duty-free access into the United States for specified quantities of certain agricultural products of Israel, each time for an additional 1-year period.

10. On November 26, 2013, the United States entered into an agreement with Israel to extend the period that the 2004 Agreement is in force through December 31, 2014, to allow for further negotiations on an agreement to replace the 2004 Agreement.

11. Pursuant to section 4(b) of the USIFTA Act, I have determined that it is necessary, in order to maintain the general level of reciprocal and mutually advantageous concessions with respect to Israel provided for by the USIFTA, to provide duty-free access into the United States through the close of December 31, 2014, for specified quantities of certain agricultural products of Israel.

12. Presidential Proclamation 8783 of March 6, 2012, implemented the United States-Korea Free Trade Agreement (USKFTA) with respect to the United States and, pursuant to the United States-Korea Free Trade Agreement Implementation Act (the “Implementation Act”) (Public Law 112-41, 125 Stat. 428), incorporated into the HTS the schedule of duty reductions and rules of origin necessary or appropriate to carry out the USKFTA.

13. In Presidential Proclamation 8771 of December 29, 2011, pursuant to the authority provided in section 1206(a) of the Omnibus Trade and Competitiveness Act of 1988 (19 U.S.C. 3006(a)), I modified the HTS to reflect amendments to the International Convention on the Harmonized Commodity Description and Coding System (the “Convention”).

14. Section 202 of the Implementation Act provides rules for determining whether goods imported into the United States originate in the territory of a Party to the USKFTA and thus are eligible for the tariff and other treatment contemplated under the Agreement. Section 202(o) of the Implementation Act authorizes the President to proclaim, as part of the HTS, the rules of origin set out in the USKFTA and to proclaim any modifications to such previously proclaimed rules of origin, subject to the exceptions stated in section 202(o)(2)(A) of the Implementation Act.

15. Because the USKFTA was negotiated under the 2002 HTS nomenclature, the United States and Korea agreed to modify certain specific rules of origin in the USKFTA to ensure that the tariff and certain other treatment accorded under the Agreement to originating goods will continue to be provided under the tariff categories that were modified in Proclamation 8783.

16. In order to implement the agreed modifications to the rules of origin in the USKFTA and ensure the continuation of such staged reductions in rates of duty for originating goods under tariff categories that have been modified to reflect the amendments to the Convention, I have determined that additional modifications to the HTS are necessary or appropriate to ensure that the duty reductions previously proclaimed are applied.

17. Section 212 of the Caribbean Basin Economic Recovery Act (CBERA) (19 U.S.C. 2702), as amended by the Caribbean Basin Trade Partnership Act (CBTPA) (Public Law 106-200), authorizes the President to designate certain countries, territories, or successor political entities as beneficiary countries for the purposes of the CBERA and CBTPA.

18. Section 211 of the CBTPA provides that certain preferential tariff treatment may be provided to eligible articles that are the product of any country that the President designates as a “CBTPA beneficiary country” pursuant to section 213(b)(5)(B) of the CBERA (19 U.S.C. 2703(b)(5)(B)), provided that the President determines that the country has satisfied the requirements of section 213(b)(4)(A)(ii) (19 U.S.C. 2703(b)(4)(A)(ii)) relating to the implementation of procedures and requirements similar to those in chapter 5 of the North American Free Trade Agreement (NAFTA).

19. In Proclamation 7351 of October 2, 2000, the President authorized the United States Trade Representative (USTR) to perform the functions specified in section 213(b)(4)(A)(ii) of the CBERA and certain functions under section 604 of the 1974 Act (19 U.S.C. 2483) for each beneficiary country designated in that proclamation pursuant to section 213(b)(5)(B) of the CBERA.

20. Curaçao is a successor political entity to The Netherlands Antilles and has expressed its desire to be designated as a beneficiary country under the CBERA and CBTPA. As a successor political entity, Curaçao was not included in Proclamation 7351.

21. Pursuant to section 212(b) and (c) and 213(b)(5)(B) of the CBERA (19 U.S.C. 2702(b) and (c) and 19 U.S.C. 2703(b)(5)(B)), I have determined that Curaçao meets the eligibility requirements set forth in those sections. Accordingly, pursuant to section 212(b) and 213(b) of the CBERA, and after taking into account the factors enumerated in section 212(b) and (c) of the CBERA (19 U.S.C. 2702(b) and (c)), I have decided to designate Curaçao as a beneficiary country for purposes of the CBERA and CBTPA. In addition, pursuant to section 212(a)(1)(A) of the CBERA, I am notifying the Congress of my intention to designate Curaçao as a beneficiary country under the CBERA and CBTPA, and communicating the considerations entering into my decision.

22. The preferential treatment extended pursuant to the Andean Trade Preference Act (ATPA) (19 U.S.C. 3201-3206, as amended) expired on July 31, 2013. As a result, I have determined that certain modifications to the HTS are required to reflect this status.

23. Presidential Proclamation 7746 of December 30, 2003, implemented the United States-Chile Free Trade Agreement (USCFTA) with respect to the United States and, pursuant to the United States-Chile Free Trade Agreement Implementation Act (19 U.S.C. 3805 note), incorporated in the HTS the schedule of duty reductions and rules of origin necessary or appropriate to carry out the USCFTA. Those modifications to the HTS were set out in Publication 3652 of the U.S. International Trade Commission, which was incorporated by reference into Proclamation 7746.

24. Annex II of Publication 3652 contained a typographical error that needs to be corrected. I have determined that a modification to the HTS is necessary to correct this typographical error and to provide the intended tariff treatment.

25. Section 604 of the 1974 Act (19 U.S.C. 2483), authorizes the President to embody in the HTS the substance of the relevant provisions of that Act, and of other acts affecting import treatment, and actions taken thereunder, including the removal, modification, continuance, or imposition of any rate of duty or other import restriction.

NOW, THEREFORE, I, BARACK OBAMA, President of the United States of America, by virtue of the authority vested in me by the Constitution and the laws of the United States of America, including but not limited to section 301 of title 3, United States Code, title V and section 604 of the 1974 Act, section 104 of the AGOA, section 4 of the USIFTA Act, section 202 of the Implementation Act, and sections 212 and 213 of the CBERA, do proclaim that:

(1) Mali is designated as a beneficiary sub-Saharan African country.

(2) In order to reflect this designation in the HTS, general note 16(a) to the HTS is modified by inserting in alphabetical sequence in the list of beneficiary sub-Saharan African countries “Republic of Mali (Mali).”

(3) In order to implement U.S. tariff commitments under the 2004 Agreement through December 31, 2014, the HTS is modified as provided in Annex I to this proclamation.

(4)(a) The modifications to the HTS set forth in Annex I to this proclamation shall be effective with respect to eligible agricultural products of Israel that are entered, or withdrawn from warehouse for consumption, on or after January 1, 2014.

(b) The provisions of subchapter VIII of chapter 99 of the HTS, as modified by Annex I to this proclamation, shall continue in effect through December 31, 2014.

(5) In order to reflect in the HTS the modifications to the rules of origin under the USKFTA, general note 33 to the HTS is modified as set forth in Annex II to this proclamation.

(6) The modifications to the HTS set forth in Annex II to this proclamation shall be effective with respect to goods that are entered or withdrawn from warehouse for consumption, on or after January 1, 2014.

(7) Curaçao is designated as an eligible beneficiary country for the purposes of the CBERA and CBTPA.

(8) In order to reflect Curaçao's designation as a beneficiary country for the purposes of the CBERA, general note 7(a) to the HTS is modified by inserting in alphabetical sequence “Curaçao.”

(9) In order to implement Curaçao's designation as a CBTPA beneficiary country, the USTR is authorized to determine whether Curaçao has satisfied the requirements of section 213(b)(4)(A)(ii) of the CBERA relating to the implementation of procedures and requirements similar in all material respects to those in chapter 5 of the NAFTA. To implement such determination, the USTR is authorized to exercise the authority provided to the President under section 604 of the 1974 Act to embody modifications and technical and conforming changes in the HTS. The determination of the USTR under this paragraph shall be set forth in a notice that the USTR shall cause to be published in the Federal Register. Such notice shall modify general note 17 of the HTS by including Curaçao in the list of CBTPA beneficiary countries.

(10) In order to reflect the expiration of the ATPA, the HTS is modified as set forth in Annex III to this proclamation.

(11) The modifications to the HTS set forth in Annex III to this proclamation shall be effective with respect to goods that are entered, or withdrawn from warehouse for consumption, on or after July 31, 2013.

(12) In order to provide the intended tariff treatment to goods of Chile under the terms of general note 26, the HTS is modified as set forth in Annex IV to this proclamation.

(13) The modifications to the HTS set forth in Annex IV to this proclamation shall be effective with respect to goods that are entered or withdrawn from warehouse for consumption, on or after January 1, 2004.

(14) Any provisions of previous proclamations and Executive Orders that are inconsistent with the actions taken in this proclamation are superseded to the extent of such inconsistency.

IN WITNESS WHEREOF, I have hereunto set my hand this twenty-third day of December, in the year of our Lord two thousand thirteen, and of the Independence of the United States of America the two hundred and thirty-eighth.

Billing code 3295-F4-P

[FR Doc. 2013-31373

Filed 12-30-13; 8:45 am]

Billing code 7020-02-C